SMALL BUSINESS ADMINISTRATION

National Small Business Development Centers Advisory Board

AGENCY: U.S. Small Business Administration.

ACTION: Notice of open Federal Advisory Committee meetings.

SUMMARY: The SBA is issuing this notice to announce the location, date, time and agenda for the September meeting of the Federal Advisory Committee for the Small Business Development Centers Program. The meetings will be open to the public; however, advance notice of attendance is required.

DATES: Thursday, September 7, 2017, at 1:45 p.m. CST—In person.

ADDRESSES: Gaylord Opryland Resort & Convention Center, 2800 Opryland Drive Nashville, Tennessee 37214.

FOR FURTHER INFORMATION CONTACT: Monika Nixon, Office of Small Business Development Center, U.S. Small Business Administration, 409 Third Street SW., Washington, DC 20416; monika.nixon@.sba.gov.

If anyone wishes to be a listening participant or would like to request accommodations, please contact Monika Nixon at the information above.

SUPPLEMENTARY INFORMATION: Pursuant to section l0(a) of the Federal Advisory Committee Act (5 U.S.C. Appendix 2), SBA announces the meetings of the National SBDC Advisory Board. This Board provides advice and counsel to the SBA Administrator and Associate Administrator for Small Business Development Centers.

The purpose of the meetings is to discuss the following issues pertaining to the SBDC Program:

SBA Update

Annual Meetings

Board Assignments

Member Roundtable

Richard Kingan,
Acting White House Liaison.

[FR Doc. 2017-16954 Filed 8-10-17; 8:45 am]

BILLING CODE P